DEPARTMENT OF HEALTH AND HUMAN SERVICES

Administration for Children and Families

Submission for OMB Review; Comment Request

Title: Provision of Services in Interstate Child Support.

Enforcement: Standard Forms.

OMB No.: 0970-0085.

Description: Public Law 104-193, the Personal Responsibility and Work Opportunity Reconciliation Act of 1996, amended 42 USC 666 to require State and Territory Child Support Enforcement (CSE) IV-D agencies to enact the Uniform Interstate Family Support Act (UIFSA) into State and Territory law by January 1, 1998. Section 311(b) of UIFSA requires States and Territories to use standard interstate forms. 45 CFR 303.7 also requires CSE IV-D agencies to transmit child support case information on standard interstate forms when referring cases to other States and Territories for processing. These forms are expiring in January 2008 and the Administration for Children and Families is taking this opportunity to make some revisions as requested by States and Territories during the 60-day comment period.

Respondents: State and Territory agencies administering the Child Support Enforcement program under title IV-D of the Social Security Act.

Annual Burden Estimates
Instrument | Number of respondents | Number of responses per respondent | Average burden hours per response | Total burden hours
Transmittal 1 | 54 | 19,278 | .25 | 260,253
Transmittal 2 | 54 | 14,458 | .08 | 62,459
Transmittal 3 | 54 | 964 | .08 | 4,164
Uniform Petition | 54 | 9,639 | .08 | 41,640
General Testimony | 54 | 11,567 | .33 | 206,124
Affidavit Paternity | 54 | 4,819 | .17 | 44,238
Locate Data Sheet | 54 | 375 | .08 | 1,620
Notice of Controlling Order | 54 | 964 | .08 | 4,164
Registration Statement | 54 | 8,675 | .08 | 37,476

Estimate Total Annual Burden Hours: 662,138.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Fax: 202-395-6974, Attn: Desk Office for the Administration for Children and Families.

Dated: November 1, 2007.
Robert Sargis,
Reports Clearance Officer.

[FR Doc. 07-5576 Filed 11-7-07; 8:45 am]

BILLING CODE 4184-01-M